DEPARTMENT OF THE TREASURY

Internal Revenue Service

26 CFR Parts 1 and 54

[TD 9472]

RIN 1545-BG48

Notice Requirements for Certain Pension Plan Amendments Significantly Reducing the Rate of Future Benefit Accrual; Correction

AGENCY: Internal Revenue Service (IRS), Treasury.

ACTION: Correction to final regulations.

SUMMARY: This document contains a correction to final regulations (TD 9472) that were published in the Federal Register on Tuesday, November 24, 2009 (74 FR 61270) providing guidance relating to the application of the section 204(h) notice requirements to a pension plan amendment that is permitted to reduce benefits accrued before the plan amendment's applicable amendment date.

DATES: This correction is effective on December 23, 2009, and is applicable on November 24, 2009.

FOR FURTHER INFORMATION CONTACT: Pamela R. Kinard, (202) 622-6060 (not a toll-free number).

SUPPLEMENTARY INFORMATION:

Background

The final regulations (TD 9472) that are the subject of this document are under sections 411(d)(6) and 4980F of the Internal Revenue Code.

Need for Correction

As published, the final regulations (TD 9472) contain an error that may prove to be misleading and is in need of clarification.

Correction of Publication

Accordingly, the publication of the final regulations (TD 9472), which were the subject of FR Doc. E9-28078, is corrected as follows:

On page 61275, column 3, in the preamble, under the paragraph heading “Effective/Applicability Dates”, lines 4 and 5 from the bottom of first paragraph of the column, the language “(available on the IRS Web site at http://www.irs.gov/pub/irs-drop/a-09-82.pdf),” is removed and replaced with the language “(2009-48 IRB 720) See § 601.601(d)(2)(ii)(b),” in its place.

LaNita Van Dyke,
Chief, Publications and Regulations Branch, Legal Processing Division, Associate Chief Counsel (Procedure and Administration).

[FR Doc. E9-30535 Filed 12-22-09; 8:45 am]

BILLING CODE 4830-01-P